NUCLEAR REGULATORY COMMISSION

10 CFR Chapter I

[NRC-2021-0173]

Operational Leakage

AGENCY: Nuclear Regulatory Commission.

ACTION: Draft regulatory issue summary; public meeting and request for comment.

SUMMARY: The U.S. Nuclear Regulatory Commission (NRC) is seeking public comment on a draft regulatory issue summary (RIS) Operational Leakage. The NRC staff seeks to clarify regulatory requirements for all licensees of boiling and pressurized water reactors that apply to operational leakage. This draft RIS is a clarification for the NRC requirements for evaluation, control, and treatment of operational leakage in systems required to be operable by plant technical specifications (TS).

DATES: Submit comments by March 15, 2022. Comments received after this date will be considered if it is practical to do so, but the Commission is able to ensure consideration only for comments received on or before this date.

ADDRESSES: You may submit comments by any of the following methods; however, the NRC encourages electronic comment submission through the Federal Rulemaking Website:

• Federal Rulemaking Website: Go to https://www.regulations.gov and search for Docket ID NRC-2021-0173. Address questions about Docket IDs in Regulations.gov to Stacy Schumann; telephone: 301-415-0624; email: Stacy.Schumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Brian Benney, telephone: 301-415-2767, email: Brian.Benney@nrc.gov, and Jay Collins, telephone: 301-415-4038, email: Jay.Collins@nrc.gov. Both are staff in the Office of Nuclear Reactor Regulation at the U.S. Nuclear Regulatory Commission, Washington, DC 20555-0001.

SUPPLEMENTARY INFORMATION:

I. Obtaining Information and Submitting Comments

A. Obtaining Information

Please refer to Docket ID NRC-2021-0173 when contacting the NRC about the availability of information for this action. You may obtain publicly available information related to this action by any of the following methods:

• Federal Rulemaking Website: Go to https://www.regulations.gov and search for Docket ID NRC-2021-0173.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The RIS 2022-XX, Operational Leakage, is available in ADAMS under Accession No. ML21166A122.

• NRC's PDR: You may examine and purchase copies of public documents, by appointment, at the PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

B. Submitting Comments

The NRC encourages electronic comment submission through the Federal Rulemaking website (https://www.regulations.gov). Please include Docket ID NRC-2021-0173 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

This RIS is intended for all holders of operating licenses and combined licenses for nuclear power reactors, except those who have permanently ceased operations and have certified that fuel has been permanently removed from the reactor vessel.

Operational leakage is leakage through a flaw in the pressure retaining boundary of American Society of Mechanical Engineers (ASME) Boiler and Pressure Vessel Code (BPVC) Code Class 1, 2 or 3 systems, structures, and components (SSC) discovered during the operational life of the nuclear power plant outside any ASME BPVC-required pressure test. The term “through-wall” describes a condition that extends from one surface to another surface in a component. If through-wall operational leakage is observed from an ASME BPVC Class 1, 2 or 3 SSC, and the structural integrity of the SSC must be established to conclude that the system remains operable, then the methods described in the provisions of the applicable inservice inspection requirements, as specified in paragraph 50.55a(g) of title 10 of the Code of Federal Regulations, must be used. These methods require analysis in accordance with the original construction code, the implementation of an NRC-approved ASME BPVC Code Case, or Nonmandatory Appendix U of ASME BPVC, Section XI, to verify structural integrity or perform a repair/replacement activity.

This RIS emphasizes that operational leakage must be addressed in the same manner as leakage detected during an ASME BPVC, Section XI, pressure test. That is, when operational leakage is found in a system that is within the scope of ASME BPVC, Section XI, and is required to be operable by plant TS, the component must be evaluated by the licensee for operability. Structural integrity determinations must be conducted in accordance with the applicable provisions of the original construction code, the ASME BPVC, Section XI, or otherwise addressed through authorized methods. This entails evaluation in accordance with an NRC-approved Code Case; the use of Nonmandatory Appendix U of ASME BPVC, Section XI; or a repair/replacement activity.

The NRC issues RISs to communicate with stakeholders on a broad range of matters. This may include communication and clarification of NRC technical or policy positions on regulatory matters that have not been communicated to or are not broadly understood by the nuclear industry.

As noted in “Relocation of Regulatory Issue Summary Notices in the Federal Register” (May 8, 2018, 83 FR 20858), this document is being published in the Proposed Rules section of the Federal Register to comply with publication requirements under 1 CFR chapter I.

II. Proposed Action

The NRC is requesting public comments on the draft RIS. The NRC plans to hold a public meeting to discuss this RIS and the issues associated with it. Additional details regarding the meeting will be posted at least 10 days prior to the public meeting on the NRC's Public Meeting Schedule website at https://www.nrc.gov/public-involve/public-meetings/index.cfm. All comments that are to receive consideration in the final RIS must still be submitted electronically or in writing as indicated in the ADDRESSES section of this document.

The NRC staff will make a final determination regarding issuance of the RIS after it considers any public comments received in response to this request.

Dated: January 11, 2022.
For the Nuclear Regulatory Commission.
Lisa M. Regner,
Chief, Generic Communications and Operating Experience Branch, Division of Reactor Oversight, Office of Nuclear Regulatory Research.

[FR Doc. 2022-00686 Filed 1-13-22; 8:45 am]

BILLING CODE 7590-01-P